DEPARTMENT OF COMMERCE

International Trade Administration

[A-337-804, A-570-851, A-533-813, A-560-802]

Continuation of Antidumping Duty Orders on Certain Preserved Mushrooms From Chile, the People's Republic of China, India, and Indonesia

AGENCY: Import Administration, International Trade Administration, Department of Commerce.

ACTION: Notice of continuation of antidumping duty orders on certain preserved mushrooms from Chile, the People's Republic of China, India, and Indonesia.

SUMMARY: The Department of Commerce (“the Department”) has determined that revocation of the antidumping duty orders on certain preserved mushrooms (“mushrooms”) from Chile, the People's Republic of China (“China”), India, and Indonesia, would likely lead to continuation or recurrence of dumping. On November 1, 2004, the International Trade Commission (“ITC”), pursuant to section 751(c) of the Tariff Act of 1930, as amended (“the Act”), determined that revocation of the antidumping duty orders on certain preserved mushrooms from Chile, China, India, and Indonesia would likely lead to continuation or recurrence of material injury to an industry in the United States within a reasonably foreseeable time. Therefore, pursuant to 19 CFR 351.218(f)(4), the Department is publishing notice of the continuation of the antidumping duty orders on mushrooms from Chile, China, India, and Indonesia.

DATES: Effective November 17, 2004.

Contact Information: Martha V. Douthit, Office of Policy, Import Administration, International Trade Administration, U.S. Department of Commerce, 14th Street and Constitution Ave., NW., Washington, DC 20230; telephone: (202) 482-5050.

SUPPLEMENTARY INFORMATION:

Background

On November 3, 2003, the Department initiated, and the ITC instituted, sunset reviews of the antidumping duty orders on mushrooms from Chile, China, India, and Indonesia, pursuant to section 751(c) of the Act.¹ As a result of its review, the Department found that revocation of the antidumping duty orders would likely lead to continuation or recurrence of dumping and notified the ITC of the magnitude of the margins likely to prevail were the order revoked.² On November 1, 2004, the ITC determined pursuant to section 751(c) of the Act, that revocation of the antidumping duty orders on mushrooms would likely lead to continuation or recurrence of material injury to an industry in the United States within a reasonably foreseeable time.³

¹ See Initiation of Five-year (“Sunset”) Reviews, 68 FR 62280 and 68 FR 62322 (November 3, 2003).

² See Certain Preserved Mushrooms from Chile, India, Indonesia and The People's Republic of China; Final Results of Expedited Sunset Reviews of Antidumping Duty Orders, 69 FR 11384 (March 10, 2004).

³ See Certain Preserved Mushrooms from Chile, China, India, and Indonesia, 69 FR 63408 (November 1, 2004), and USITC Publication 3731, Investigation Nos. 731-TA-776-779 (November 1, 2004) (Review).

Scope of Orders

The products subject to these orders are imported certain preserved mushrooms whether imported whole, sliced, diced, or as stems and pieces. The preserved mushrooms covered under the orders are the species Agaricus bisporus and Agaricus bitorquis. “Preserved mushrooms” refer to mushrooms that have been prepared or preserved by cleaning, blanching, and sometimes slicing or cutting. These mushrooms are then packed and heated in containers including, but not limited to, cans or glass jars, in a suitable liquid medium including, but not limited to, water, brine, butter or butter sauce. Included within the scope of these orders are “brined” mushrooms, which are presalted and packed in a heavy salt solution to provisionally preserve them for further processing. Also included within the scope of these orders, as of June 19, 2000, are marinated, acidified, or pickled mushrooms containing less than 0.5 percent acetic acid. Excluded from the scope of these orders are the following: (1) All other species of mushroom, including straw mushrooms; (2) all fresh and chilled mushrooms, including “refrigerated” or “quick blanched mushrooms”; (3) dried mushrooms; and (4) frozen mushrooms. The merchandise subject to these orders were previously classifiable under subheadings 2003.10.0027, 2003.10.0031, 2003.10.0037, 2003.10.0043, 2003.10.0047, 2003.10.0053, and 0711.90.4000 of the Harmonized Tariff Schedule of the United States (“HTSUS”). Although the HTSUS subheadings are provided for convenience and customs purposes, the written description of the scope of these orders is dispositive. As of January 1, 2002, the HTSUS codes are as follows: 2003.10.0127, 2003.10.0131, 2003.10.0137, 2003.10.0143, 2003.10.0147, 2003.10.0153, 0711.51.0000.

Determination

As a result of the determinations by the Department and ITC that revocation of these antidumping duty orders would likely lead to continuation or recurrence of dumping and material injury to an industry in the United States, pursuant to section 751(d)(2) of the Act, the Department hereby orders the continuation of the antidumping duty orders on mushrooms from Chile, China, India, and Indonesia. The effective date of continuation of these orders will be the date of publication in the Federal Register of this Notice of Continuation. Pursuant to sections 751(c)(2) and 751(c)(6) of the Act, the Department intends to initiate the next five-year reviews of these orders not later than October 2009.

The five-year (“sunset”) reviews and notice are published in accordance with sections 751(c), 752 and 777(i)(1) of the Act.

Dated: November 8, 2004.
James J. Jochum,
Assistant Secretary for Import Administration.

[FR Doc. E4-3175 Filed 11-16-04; 8:45 am]

BILLING CODE 3510-DS-P